DEPARTMENT OF HEALTH AND HUMAN SERVICES

Administration for Children and Families

Submission for OMB Review; Comment Request

Title: Head Start/Early Head Start Emergency Preparedness Survey.

OMB No.: New Collection.

Description: The Office of Head Start, within the Administration for Children and Families (ACF) of the Department of Health and Human Services (HHS), is planning a survey to collect data on Head Start and Early Head Start programs' emergency preparedness policies and procedures. Section 649(m)(2) of Public Law 110-134, “The Improving Head Start for School Readiness Act of 2007” states, “The Secretary shall evaluate the Federal, State, and local preparedness of Head Start programs, including Early Head Start programs to respond appropriately in the event of a large-scale emergency, * * *.” The Head Start/Early Head Start Emergency Preparedness Survey was created in response to this request and will gather uniform data about current emergency preparedness policies and procedures for responding to large-scale emergencies of Head Start and Early Head Start programs.

Respondents: Head Start and Early Head Start grantees.

Annual Burden Estimates
Instrument | Annual number of respondents | Per respondent | Average burden hours per response | Total annual burden hours
Head Start/Early Head Start Emergency Preparedness Survey Informational Material | 1,604 | 1 | 0.03 | 48
Head Start/Early Head Start Emergency Preparedness Survey | 1,604 | 1 | 0.50 | 802

Estimated Total Annual Burden Hours: 850.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: May 8, 2009.
Seth F. Chamberlain,
OPRE Reports Clearance, Officer.

[FR Doc. E9-11287 Filed 5-13-09; 8:45 am]

BILLING CODE 4184-01-M